ENVIRONMENTAL PROTECTION AGENCY

[EPA-HQ-RCRA-2007-0417; FRL-8520-6]

Agency Information Collection Activities; Submission to OMB for Review and Approval; Comment Request; Hazardous Waste Generator Standards (Renewal), EPA ICR Number 0820.10, OMB Control Number 2050-0035

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2008.

Under OMB regulations, the Agency may continue to conduct or sponsor the collection of information while this submission is pending at OMB. This ICR describes the nature of the information collection and its expected burden and cost.

DATES: Additional comments may be submitted on or before February 25, 2008.

ADDRESSES: Submit your comments, referencing docket number EPA-HQ-RCRA-2007-0417, to (1) EPA online using http://www.regulations.gov (our preferred method), by e-mail to rcra-docket@epa.gov, or by mail to: EPA Docket Center, Environmental Protection Agency, Resource Conservation and Recovery Act (RCRA) Docket, Mail Code 2822T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Jim O'Leary, Office of Solid Waste, Mail Code 5304P, U.S. Environmental Protection Agency, 1200 Pennsylvania Ave., NW., Washington, DC 20460; telephone number: (703) 308-8827; fax number: (703) 308-0514; e-mail address: oleary.jim@epa.gov.

SUPPLEMENTARY INFORMATION: EPA has submitted the following ICR to OMB for review and approval according to the procedures prescribed in 5 CFR 1320.12. On September 7, 2007 (72 FR 51437), EPA sought comments on this ICR pursuant to 5 CFR 1320.8(d). EPA received no comments on this ICR.

EPA has established a public docket for this ICR under Docket ID No. EPA-HQ-RCRA-2007-0417, which is available for online viewing at www.regulations.gov, or in person viewing at the RCRA Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the RCRA Docket is 202-566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Hazardous Waste Generator Standards (Renewal).

ICR numbers: EPA ICR No. 820.10, OMB Control No. 2050-0035.

ICR Status: This ICR is scheduled to expire on January 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Under the Resource Conservation and Recovery Act (RCRA), as amended, Congress directed the U.S. Environmental Protection Agency to implement a comprehensive program for the safe management of hazardous waste. The core of the national waste management program is the regulation of hazardous waste from generation to transport to treatment and eventual disposal, or from “cradle to grave.”

This ICR addresses the following categories of informational requirements in part 262: pre-transport requirements for both large (LQG) and small (SQG) quantity generators; storage requirements in tanks, containment buildings and drip pads; air emission standards requirements for LQGs (referenced in 40 CFR Part 265, Subparts AA and BB); recordkeeping and reporting requirements for LQGs and SQGs; and export requirements for LQGs and SQGs (i.e., notification of intent to export and annual reporting).

This collection of information is necessary to help generators and EPA: (1) Identify and understand the waste streams being generated and the hazards associated with them; (2) determine whether employees have acquired the necessary expertise to perform their jobs; and (3) determine whether LQGs have developed adequate procedures to respond to unplanned sudden or non-sudden releases of hazardous waste or hazardous constituents to air, soil, or surface water. This information is also needed to help EPA determine whether tank systems are operated in a manner that is fully protective of human health and the environment and to ensure that releases to the environment are managed quickly and efficiently.

Additionally, this information contributes to EPA's goal of preventing contamination of the environment from hazardous waste accumulation practices, including contamination from equipment leaks and process vents. Export information is needed to ensure that:(1) Foreign governments consent to U.S. exported wastes; (2) exported waste is actually managed at facilities listed in the original notifications; and (3) documents are available for compliance audits and enforcement actions. In general, these requirements contribute to EPA's goal of preventing contamination of the environment.

Burden Statement: The average public reporting under this collection of information is estimated to be 2.78 hours per respondent. The average public recordkeeping burden under this collection of information is estimated to be 0.05 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private Sector.

Estimated Number of Respondents: 101,500.

Frequency of Response: Occasionally and biennially.

Estimated Total Annual Hour Burden: 286,866.

Estimated Total Annual Cost: $11,321,660. This includes $22,770 in annualized capital costs, $15,473 in O&M costs, and $11,283,417 in Respondent Labor costs.

Changes in the Estimates: There is a decrease of 166,217 annual hours in the total estimated burden currently identified in the OMB Inventory of Approved ICR Burden of 453,083 hours. This change primarily results from a decrease of 22,882 facilities, as well as a change in assumptions associated with such categories as containment buildings, and contingency planning resulting in the reduction of additional burden hours.

Dated: January 17, 2008.
Sara Hisel-McCoy,
Director, Collection Strategies Division.

[FR Doc. E8-1184 Filed 1-23-08; 8:45 am]

BILLING CODE 6560-50-P